DEPARTMENT OF TRANSPORTATION

Federal Transit Administration

Implementation of Section 176 of the Consolidated Appropriations Act, 2004 (Pub. L. 108-199, Division F)

AGENCY: Federal Transit Administration (FTA), DOT.

ACTION: Notice.

SUMMARY: This notice provides information and instructions to grantees on the implementation of section 176 of the Consolidated Appropriations Act, 2004, (Pub. L. 108-199, Division F). Section 176 amends section 3027(c)(3) of TEA-21 to allow for operating assistance under 49 U.S.C. 5307. This assistance is available to a transit provider of services exclusively for elderly persons and persons with disabilities and that operate 25 or fewer vehicles in an urbanized area with a population of at least 200,000.

DATES: A letter of intent to apply for operating assistance under section 176 must be received by the appropriate FTA Regional Office on or before June 16, 2004. FTA will make a determination of the amount eligible applicants may use for operating assistance on or before July 16, 2004.

ADDRESSES: Addresses of the ten FTA Regional Offices are listed at the end of this notice in Appendix A.

FOR FURTHER INFORMATION CONTACT: The appropriate FTA Regional Administrator or Mary Martha Churchman, Director, Office of Resource Management and State Programs, (202) 366-2053.

SUPPLEMENTARY INFORMATION: Generally, operating assistance is not an eligible cost for recipients of Urbanized Area Formula (49 U.S.C. 5307) funds in an urbanized area (UZA) with a population of 200,000 or more. Section 360 of the Omnibus Consolidated and Emergency Supplemental Appropriations Act, 1999 (Pub. L. 105-277), amended section 3027(c) of TEA-21 by adding paragraph (3), which allows for an exception to this restriction on operating assistance and provides that FTA may allow certain recipients of section 5307 funds in such areas that provide service for elderly persons and persons with disabilities, with 20 or fewer vehicles, to use a portion of their section 5307 funds for operating assistance. Section 341 of the Fiscal Year (FY) 2001 DOT Appropriations Act (Pub. L. 106-346), subsequently amended section 3027(c)(3) of TEA-21 by increasing the amount of available funding under section 3027(c)(3) of TEA-21 from $1,000,000 to $1,444,000.

Section 176 of the Consolidated Appropriations Act, 2004, further amends section 3027(c)(3) of TEA-21, as amended, for FY 2004. The two principal changes set forth in the language of section 176 are: (1) The number of vehicles an eligible transit provider may operate is 25 or fewer; and (2) the total amount of funding available for assistance to all entities may not exceed $10 million. Previously, only four Texas grantees were eligible; but we believe additional grantees may be eligible under this amendment. All grantees wishing to use section 176, including those previously identified as eligible, must meet the criteria listed below and are asked to send letters of intent to the appropriate FTA Regional Office.

Criteria

The criteria by which FTA will allow eligibility for Federal transit operating assistance under the provisions of section 176 of the Consolidated Appropriations Act, 2004, are as follows:

1. The only transit service the operator provides is demand-responsive service for elderly persons and/or persons with disabilities. Such service does not include service for the general public.

2. The number of demand-responsive vehicles, operated in maximum service, is 25 or fewer.

3. The operator provides the demand-responsive service in a UZA with a population of 200,000 or more.

4. The demand-responsive service provided is not ADA paratransit service complementary to fixed-route service.

5. Neither fixed-route nor ADA-related paratransit service complementary to fixed-route service is provided in the service areas served by the demand-responsive service for which Federal transit operating assistance will be requested.

6. The Metropolitan Planning Organization concurs in the use of operating assistance for a portion of the urbanized area's section 5307 apportionment.

Calculation

After determining a transit provider's eligibility to use section 5307 funds for operating assistance, and taking into account the total amounts of Federal transit operating assistance being requested, FTA will determine the amount for which the recipient is eligible. The grantee/transit operator may not apply for and will not receive more than 50 percent of its net cost for operating expenses for the local fiscal year for which operating assistance is requested.

If the total amount requested by all eligible recipients under section 176 is greater than $10 million, FTA will calculate the amount allowable to each eligible recipient on a pro-rated basis to all of the eligible recipients requesting assistance under section 176.

FTA Grant Application Requirements

All of the normal FTA grant requirements regarding Federal transit operating assistance apply, as described in Appendix D of FTA Circular 9030.1C, “Urbanized Area Formula Program: Grant Application Instructions,” dated October 1, 1998. Understanding that amendments to Transportation Improvement Programs (TIP) and State Transportation Improvement Programs (STIP) will have to be made, FTA will not require that the funds be programmed in a TIP before the letter of intent is received. However, use of the funds under section 176 must be programmed in an approved TIP and an approved STIP before FTA can obligate funds.

Letter of Intent

The letter of intent, which must be received by the appropriate FTA Regional Office on or before June 16, 2004, should address the following:

1. Each criterion of eligibility listed.

2. The amount of FY 2004 funds requested for Federal transit operating assistance. Such amount may not be greater than 50 percent of the grant recipient's net cost for operating expenses for the local fiscal year for which operating assistance is requested.

After eligibility and funding determinations have been made, FTA will notify all transit providers/grantees that submitted letters of intent of their eligibility status and the amount of funding they may apply for. Please contact the appropriate FTA Regional Office for additional information or guidance if you intend to make use of this provision.

Issued on: May 11, 2004.
Jennifer L. Dorn,
Administrator.

Appendix A—FTA Regional Offices

Region 1—Boston, Kendall Square, 55 Broadway, Suite 920, Cambridge, MA 02142-1093, Tel. 617 494-2055

Region 2—New York, One Bowling Green, Room 429, New York, NY 10004-1415, Tel. No. 212 668-2170

Region 3—Philadelphia 1760 Market Street, Suite 500, Philadelphia, PA 19103-4124, Tel. 215 656-7100

Region 4—Atlanta, Atlanta Federal Center, Suite 17T50, 61 Forsyth Street SW, Atlanta, GA 30303, Tel. 404 562-3500

Region 5—Chicago, 200 West Adams Street, Suite 320, Chicago, IL 60606, Tel. 312 353-2789

Region 6—Ft. Worth, 819 Taylor Street, Room 8A36, Ft. Worth, TX 76102, Tel. 817 978-0550

Region 7—Kansas City, MO 901 Locust Street, Room 404, Kansas City, MO 64106, Tel. 816 329-3920

Region 8—Denver, Columbine Place, 216 16th Street, Suite 650, Denver, CO 80202-5120, Tel. 303 844-3242

Region 9—San Francisco, 201 Mission Street, Room 2210, San Francisco, CA 94105-1926, Tel. 415 744-3133

Region 10—Seattle, Jackson Federal Building, 915 Second Avenue, Suite 3142, Seattle, WA 98174-1002, Tel. 206 220-7954

[FR Doc. 04-11144 Filed 5-14-04; 8:45 am]

BILLING CODE 4910-57-P